ENVIRONMENTAL PROTECTION AGENCY

[FRL-7799-7]

Lead and Copper Rule: Expert Panel Workshop on Public Education and Risk Communication

AGENCY: Environmental Protection Agency.

ACTION: Notice.

SUMMARY: The Environmental Protection Agency (EPA) is convening an expert panel workshop to discuss issues associated with the Lead and Copper Rule (LCR). The workshop will discuss the public education requirements under the LCR and how to effectively communicate risk to customers in a variety of situations.

DATES: The workshop will be held on September 14 and 15, 2004, 8 a.m. to 5 p.m. (EDT).

ADDRESSES: The workshop will be held at the Hilton Philadelphia Airport Hotel, 4509 Island Avenue, Philadelphia, PA 19153.

FOR FURTHER INFORMATION CONTACT: Registration is required to attend this workshop as an observer registration. To register by phone please contact Liana Pike at (703) 247-6136, or register by e-mail at registration@epapeworkshop.com. For administrative meeting information, contact Liana Pike, Cadmus Group, Inc., by phone at (703) 247-6136 or by e-mail at lpike@cadmusgroup.com. For technical information, contact Lisa Christ, Office of Water, Office of Ground Water and Drinking Water, U.S. EPA, 1200 Pennsylvania Ave., NW., (MC 4607M), Washington, DC. 20460 at (202) 564-8354 or by e-mail at christ.lisa@epa.gov.

SUPPLEMENTARY INFORMATION: There is no charge for attending this workshop as an observer, but seats are limited, so register as soon as possible. Any person needing special accommodations at any of these meetings, including wheelchair access, should make this known at the time of registration.

Dated: August 4, 2004.
Cynthia C. Dougherty,
Director, Office of Ground Water and Drinking Water.

[FR Doc. 04-18239 Filed 8-9-04; 8:45 am]

BILLING CODE 6560-50-P